DEPARTMENT OF EDUCATION

34 CFR Part 668

[Docket ID ED-2010-OPE-0012]

RIN 1840-AD04

Program Integrity: Gainful Employment; Correction

AGENCY: Office of Postsecondary Education, Department of Education

ACTION: Notice of public meeting sessions; correction.

SUMMARY: On October 18, 2010, we published in the Federal Register (75 FR 63763) a notice announcing public meeting sessions to receive oral presentations and to interact with commenters regarding comments that were submitted to the Department of Education in response to its Notice of Proposed Rulemaking on Program Integrity: Gainful Employment, published in the Federal Register on July 26, 2010 (75 FR 43616).

This document corrects the ending date for members of the public to register to attend—only—the public meeting sessions that is listed in the October 18, 2010 notice.

FOR FURTHER INFORMATION CONTACT: Leigh Arsenault, U.S. Department of Education, 400 Maryland Avenue, SW., room 7E304, Washington, DC 20202. Telephone: 202-453-7127 or by e-mail: Leigh.Arsenault@ed.gov.

If you use a telecommunications device for the deaf (TDD), call the Federal Relay Service (FRS), toll free, at 1-800-877-8339.

SUPPLEMENTARY INFORMATION: Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Correction

In proposed rule FR Doc. 10-26180, beginning on page 67363 in the issue of October 18, 2010, make the following correction, in the Supplementary Information section. On page 63764, in the second column, in the eighth and ninth lines, correct the date to read “October 29, 2010”.

Dated: October 26, 2010.
Arne Duncan,
Secretary of Education.

[FR Doc. 2010-27415 Filed 10-28-10; 8:45 am]

BILLING CODE 4000-01-P